DEPARTMENT OF COMMERCE

National Oceanic and Atmospheric Administration

RIN 0648-XG301

Endangered and Threatened Species; Take of Anadromous Fish

AGENCY: National Marine Fisheries Service (NMFS), National Oceanic and Atmospheric Administration (NOAA), Commerce.

ACTION: Applications for one scientific research permit modification and three new permits.

SUMMARY: Notice is hereby given that NMFS has received four scientific research permit application requests relating to Pacific salmon and steelhead. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on August 6, 2018.

ADDRESSES: Written comments on the applications should be sent to the Protected Resources Division, NMFS, 1201 NE Lloyd Blvd., Suite 1100, Portland, OR 97232-1274. Comments may also be sent via fax to 503-230-5441 or by email to nmfs.nwr.apps@noaa.gov (include the permit number in the subject line of the fax or email).

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): Threatened Puget Sound (PS).

Steelhead (O. mykiss): Threatened PS.

Chum salmon (O. keta): Threatened Hood Canal Summer-run (HCS).

Authority

Scientific research permits are issued in accordance with section 10(a)(1)(A) of the ESA (16 U.S.C. 1531 et seq.) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 21330-2M

The U.S. Fish and Wildlife Service (FWS) is seeking to modify a five-year research permit that allows them to annually take juvenile PS Chinook salmon and PS steelhead in Jim Creek (South Fork Stillaguamish River watershed—Snohomish County, Washington). The purpose of the FWS study is to document ESA-listed fish presence, distribution, and abundance in Jim Creek within the boundaries of the Naval Radio Station Jim Creek facility. The research would benefit the listed species by helping refine the facility's Integrated Natural Resources Management plan—the information would help guide decisions regarding habitat restoration and fill data gaps regarding the distribution and abundance of ESA-listed PS Chinook, PS steelhead, and bull trout (Salvelinus confluentus). The FWS proposes to capture fish using backpack electrofishing equipment. The captured fish would be removed from the water using a dip net, placed in aerated buckets, anesthetized with MS-222, identified to species, weighed, measured, and returned to their capture locations when recovered. In recent years, the researchers have seen more PS steelhead than expected, so they are seeking to modify the permit by increasing the number of PS steelhead they are allowed to take. The researchers do not intend to kill any listed fish, but some may die as an inadvertent result of the research.

Permit 21870

The Oregon State University (OSU) is seeking a five-year research permit to annually take juvenile PS Chinook salmon, HCS chum salmon, and PS steelhead in the South Fork of the Skokomish River (Mason County, Washington state). The purpose of the OSU study is to research the trophic pathways that support salmonids in the Skokomish River and to determine how invasive plants mediate terrestrial subsidies to streams throughout the year. The researchers would target PS steelhead, PS/Strait of Georgia coho salmon (O. kisutch), and sculpin species. This research would benefit the affected species by filling the knowledge gaps that have limited effective restoration of local food webs. The OSU proposes to use seine nets and minnow traps to capture the fish. Captured fish would be identified to species and temporarily held in aerated buckets. Juvenile PS steelhead (and all other target species) would be anesthetized with MS-222, measured for length, tissue sampled (scales and caudal fin clip), gastric lavaged, and released. All other fish (including PS Chinook and HCS chum salmon) would be released after all the fish have been identified. The researchers do not intend to kill any listed fish, but some may die as an inadvertent result of the research.

Permit 22093

The Snoqualmie Valley Watershed Improvement District (SVWID) is seeking a five-year research permit to annually take juvenile and adult PS Chinook salmon and PS steelhead throughout the Snoqualmie River watershed (Snohomish County, Washington state). The purpose of the SVWID study is to assess fish passage barriers, habitat conditions, water quality, and fish presence/absence. This research would benefit the affected species by better informing plans to improve drainage, minimize flooding, and restore salmon habitat. Further, this research would benefit listed species by providing data about the status of these species in agricultural drainage ditches and small streams that may not otherwise be studied. The SVWID proposes to capture fish using seine nets, minnow traps, and backpack electrofishing equipment. Captured fish would be held in aerated buckets, identified to species, measured to length, and released. The researchers do not intend to kill any listed fish, but some may die as an inadvertent result of the research.

Permit 22127

The FWS is seeking a five-year research permit to annually take juvenile and adult PS Chinook salmon and PS steelhead throughout the Puyallup River watershed (Pierce and King Counties, Washington state). The purpose of the FWS study is to research ESA-listed bull trout life history diversity and gather information about their temporal and spatial use of the watershed at multiple life stages. Other target species include brook trout (Salvelinus fontinalis), cutthroat trout (O. clarkii), and non-migratory sculpin species (Shorthead, Torrent, and Riffle). PS Chinook salmon and PS steelhead would be incidentally during this study because their ranges overlap the target species. This research would benefit the listed species by providing fine scale information about their movement timing and upstream residency. Those data, in turn, would be used to inform management and recovery actions. The FWS proposes to capture fish using electro-fykes, backpack electrofishing equipment, gill nets, hook-and-line, and minnow traps. Bull trout would be anesthetized, PIT tagged, weighed, measured for length, tissue sampled (fin rays), and released. Other target species would be euthanized for otolith and fin ray analysis. All PS steelhead and PS Chinook salmon would be captured, handled, and immediately released. The researchers do not propose to kill any of the listed fish, but some may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: June 28, 2018.
Angela Somma,
Chief, Endangered Species Division, Office of Protected Resources, National Marine Fisheries Service.

[FR Doc. 2018-14341 Filed 7-3-18; 8:45 am]

BILLING CODE 3510-22-P